DEPARTMENT OF AGRICULTURE

Forest Service

Glenn/Colusa County Resource Advisory Committee

AGENCY: Forest Service, USDA.

ACTION: Notice of meeting.

SUMMARY: The Glenn/Colusa County Resource Advisory Committee (RAC) will hold its fourth meeting.

DATES: The meeting will be held on Monday 20, 2002, and will begin at 1:30 p.m. until approximately 4:30 p.m.

ADDRESSES: The meeting will be held at the Mendocino National Forrest Supervisor's Office, 825 N. Humboldt Ave., Willows, CA.

FOR FURTHER INFORMATION CONTACT: Bobbin Gaddini, Committee Coordinator, USDA, Mendocino National Forest, Grindstone Range District, P.O. Box 164, Elk Creek, CA 95939. (530) 968-5329; e-mail ggaddini@fs.fed.us.

SUPPLEMENTARY INFORMATION: Agenda items to be covered include: (1) Replacement Member Group A, (2) Proposals by Public, (3) Report of Subcommittee on Operating Guidelines/Action, (4) Report from Selection Criteria Subcommittee/Action, (5) Action on Proposed Projects, (6) Public Comment, (7) Next Agenda.

The meeting is open to the public. Public input opportunity will be provided and individuals will have the opportunity to address the Committee at that time.

Dated: April 23, 2002.
James F. Giachino,
Designated Federal Officer.

[FR Doc. 02-10411 Filed 4-26-02; 8:45 am]

BILLING CODE 3410-11-M